DEPARTMENT OF ENERGY

Federal Energy Regulatory Commission

[Docket Nos. ER06-1099-000; ER06-1099-001]

Midwest Independent Transmission System Operator, Inc.; Supplemental Notice of Technical Conference

September 15, 2006.

On August 25, 2006 the Federal Energy Regulatory Commission issued a notice to convene a technical conference on September 26, 2006, from 9 a.m. to 4 p.m. (EST) in Hearing Room 4 at the offices of the Federal Energy Regulatory Commission, 888 First Street, NE., Washington, DC 20426. The technical conference will address issues related to the Midwest ISO's proposed shortage and emergency procedures.

This supplemental notice is to announce that the conference will be transcribed. A transcript of the conference will be immediately available from Ace Reporting Company (202) 347-3700 or (800) 336-6646 for a fee. It will be available to the public on the Commission's eLibrary system seven calendar days after the Commission receives the transcript.

For further information please contact Laurel Hyde at (202) 502-8146 or e-mail laurel.hyde@ferc.gov or Melissa Nimit at (202) 502-6638 or e-mail Melissa.nimit@ferc.gov.

Magalie R. Salas.
Secretary.

[FR Doc. E6-15647 Filed 9-21-06; 8:45 am]

BILLING CODE 6717-01-P